Title 3—

The President

Proclamation 10581 of May 18, 2023

National Hepatitis Testing Day, 2023

By the President of the United States of America

A Proclamation

Thousands of Americans die every year of viral hepatitis—infections of the liver that can be managed or cured if patients know they are infected and can get treatment. On National Hepatitis Testing Day, we urge Americans to get tested and recommit to ensuring that those who are diagnosed can receive lifesaving care.

Viral hepatitis is a hidden epidemic. For those with hepatitis C, which spreads through contact with infected blood and is the most common strain, it can be years between the time someone is infected and when they first present symptoms, leaving far too many unaware that they are sick. This can further spread the virus, delay treatment, and lead to serious liver disease—including cirrhosis, liver failure, liver cancer, and even death. Pregnant women with untreated hepatitis C can also pass the virus on to their newborns. It disproportionately affects Black Americans and Native Americans, who too often cannot access quality health care, and it is more common among those experiencing homelessness and those who are incarcerated as more than a third of people in a jail or prison can be positive at a given time. The good news is that we now have a cure for hepatitis C that is 95 percent effective—but its high cost, among other factors, has kept it from many of the more than 2 million Americans in need.

My new Budget includes a bold plan to change that this decade—ending hepatitis C as a public health threat by expanding testing, slashing the high cost of treatment, and promoting awareness of the risks and the cure. It draws on work that the Department of Veterans Affairs has done in treating more than 100,000 affected veterans since 2014. My plan would make testing quicker and simpler with more point-of-care diagnostic tests so patients can be tested and treated in a single visit, rather than having to return several times before determining their infection status. It would pioneer innovative approaches to treating hepatitis C, including a national antiviral subscription model, so more Americans can get affordable care and taxpayers can save billions of dollars through prevention and the reduced need for treatment of advanced liver diseases. My plan would also support grassroots public health groups; train more health care professionals; and expand mobile, telehealth, and community sites focused on hepatitis testing and care. And it would boost progress toward a hepatitis C vaccine.

We are also taking steps to prevent hepatitis B—the second most common strain of the virus among adults, which can lead to premature death in 15 to 25 percent of cases. We are fortunate to already have a hepatitis B vaccine; it has been widely recommended for children for over 30 years, and the Centers for Disease Control and Prevention now urges all adults under 60 to be screened and vaccinated too. This is especially important among Asian American, Native Hawaiian, and Pacific Islander communities, who account for almost 60 percent of chronic hepatitis B cases in this country.

Working to beat hepatitis is something that all Americans can agree is important. It is within our power to save tens of thousands of lives and billions of dollars in health care costs, and by reducing liver cancer, these steps will also bring us closer to meeting our moonshot goal of ending cancer as we know it, achieving one of the greatest public health victories of all time. Every American can do their part—ask your health care provider about getting tested for hepatitis B and C and about being vaccinated for hepatitis B if you have not yet done so. And ask the Congress to back our push to eliminate the threat of viral hepatitis from the United States for good.

NOW, THEREFORE, I, JOSEPH R. BIDEN JR., President of the United States of America, by virtue of the authority vested in me by the Constitution and the laws of the United States, do hereby proclaim May 19, 2023, as National Hepatitis Testing Day. I encourage all Americans to join in activities that will increase awareness about viral hepatitis and what we can do to prevent and treat it.

IN WITNESS WHEREOF, I have hereunto set my hand this eighteenth day of May, in the year of our Lord two thousand twenty-three, and of the Independence of the United States of America the two hundred and forty-seventh.

[FR Doc. 2023-11054

Filed 5-22-23; 8:45 am]

Billing code 3395-F3-P